ENVIRONMENTAL PROTECTION AGENCY

[FRL-7385-2]

Program Requirement Revisions related to the Public Water System Supervision Program for the States of Vermont, Connecticut, and New Hampshire, and the Commonwealth of Massachusetts

AGENCY: Environmental Protection Agency (EPA).

ACTION: Notice.

SUMMARY: Notice is hereby given that the States of Vermont, Connecticut and New Hampshire, and the Commonwealth of Massachusetts, are in the process of revising their approved Public Water System Supervision Programs to meet the requirements of the Safe Drinking Water Act (SDWA).

EPA has determined that the Revised Public Water System Definition for the State of Vermont, as authorized under the Safe Drinking Water Act Amendments of 1996 and final rule provided on April 28, 1998 (63 FR 23362), and the Public Notification Rule that corresponds to 40 CFR part 141, subpart Q, are no less stringent than the corresponding revised federal definitions. Therefore, EPA intends to approve these Public Water System Supervision Program requirements for Vermont.

The State of Connecticut has adopted drinking water regulations establishing Administrative Penalty Authority that applies to its Drinking Water Program. The State submitted documentation, along with certification from its State Attorney General's office, indicating that the Administrative Penalty Authority currently in effect meets the minimum requirements set forth in the 1996 SDWA Amendments. EPA has determined that the Administrative Penalty Authority currently in effect in Connecticut is no less stringent than corresponding federal requirements, as authorized under the Safe Drinking Water Act Amendments of 1996 and final rule provided on April 28, 1998 (63 FR 23362). Therefore, EPA intends to approve the Administrative Penalty Authority requirements for Connecticut.

The Commonwealth of Massachusetts has revised its Public Water System Supervision (PWSS) primacy program by adopting regulations for the Public Notification Rule that correspond to 40 CFR part 141, subpart Q. After review of the submitted documentation, EPA has determined that Massachusetts' Public Notification Rule is no less stringent than the corresponding federal regulation. Therefore, EPA intends to approve this Public Water System Supervision Program requirement for Massachusetts.

The State of New Hampshire has adopted drinking water regulations for Synthetic Organic Chemicals and Inorganic Chemicals (also known as Phase II, Phase IIB, and Phase V Drinking Water Regulations) promulgated by EPA on January 30, 1991 (56 FR 3526), July 1, 1991 (56 FR 30266) and July 17, 1992 (57 FR 31776) respectively. After additional review of the submitted documentation, EPA has determined that the state program revisions for its Phase II, Phase IIB, and Phase V Drinking Water Regulations are no less stringent than the corresponding federal regulations. Therefore, EPA intends to approve these Public Water System Supervision Program requirements for New Hampshire.

DATES: All interested parties may request a public hearing for any of the above EPA determinations. A request for a public hearing must be submitted within thirty (30) days of this Federal Register publication date to the Regional Administrator at the address shown below. Frivolous or insubstantial requests for a hearing may be denied by the Regional Administrator. However, if a substantial request for a public hearing is made by this date, a public hearing will be held. If no timely and appropriate request for a hearing is received, and the Regional Administrator does not elect to hold a hearing on his/her own motion, this determination shall become final and effective 30 days after the publication of this Federal Register Notice. Any request for a public hearing shall include the following information: (1) The name, address, and telephone number of the individual organization, or other entity requesting a hearing; (2) a brief statement of the requesting person's interest in the Regional Administrator's determination; (3) information that the requesting person intends to submit at such hearing; and (4) the signature of the individual making the request, or if the request is made on behalf of an organization or other entity, the signature of a responsible official of the organization or other entity.

ADDRESSES: All documents relating to this determination are available for inspection between the hours of 8:30 a.m. and 4:00 p.m., Monday through Friday, at the following office(s): U.S. Environmental Protection Agency, Office of Ecosystem Protection, One Congress Street, 11th floor, Boston, MA 02114.

For documents specific to that State/Commonwealth:

Massachusetts Department of Environmental Protection, Drinking Water Program, One Winter Street, Boston, MA 02108.

Connecticut Department of Public Health, Drinking Water Division, 450 Capitol Avenue, P.O. Box 340308—51 WAT, Hartford, CT 06134-0308.

Vermont Department of Environmental Conservation, Water Supply Division, 103 South Main Street, Waterbury, VT 05671-0405.

New Hampshire Department of Environmental Services, Water Supply Engineering Bureau, P.O. Box 95, 6 Hazen Drive, Concord, NH 03302-0095.

FOR FURTHER INFORMATION CONTACT: Barbara McGonagle, Office of Ecosystem Protection (telephone 617-918-1608).

Authority: Sections 1401 and 1413 (42 U.S.C. 300g-2) of the Safe Drinking Water Act, as amended (1996), and 40 CFR 142.10 of the National Primary Drinking Water Regulations.

Dated: September 26, 2002.
Robert W. Varney,
Regional Administrator, EPA—New England.

[FR Doc. 02-25426 Filed 10-4-02; 8:45 am]

BILLING CODE 6560-50-P